DEPARTMENT OF COMMERCE

National Oceanic and Atmospheric Administration

[RTID 0648-XF134]

Marine Mammals and Endangered Species

AGENCY: National Marine Fisheries Service (NMFS), National Oceanic and Atmospheric Administration (NOAA), Commerce.

ACTION: Notice; issuance of permits and permit amendments.

SUMMARY: Notice is hereby given that permits and permit amendments have been issued under the Marine Mammal Protection Act (MMPA) and the Endangered Species Act (ESA), as applicable.

ADDRESSES: The permits and related documents are available for review upon written request via email to NMFS.Pr1Comments@noaa.gov.

FOR FURTHER INFORMATION CONTACT: Courtney Smith, Ph.D. (File No. 22629), Amy Hapeman (File No. 28217), Erin Markin, Ph.D., (File No. 29010), and Sara Young (File No. 23188); at (301) 427-8401.

SUPPLEMENTARY INFORMATION: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable. Notices were published in the Federal Register on the dates listed below that requests for a permit or permit amendment had been submitted. To locate the Federal Register notice that announced our receipt of the application and a complete description of the activities, go to https://www.federalregister.gov and search for the file number provided in table 1 below.

Table 1—Issued Permits and Permit Amendments
File No. | Version No. | RTID | Applicant | Previous Federal Register notice | Issuance date
22629 | 04 | 0648-XA471 | Mystic Aquarium, 55 Coogan Boulevard, Mystic, CT 06355 (Responsible Party: Susette Tibus) | 85 FR 56219, September 11, 2020 | August 15, 2025.
23188 | 03 | 0648-XB081 | Institute of Marine Sciences, University of California at Santa Cruz, 130 McAllister Way, Santa Cruz, CA 95060 (Responsible Party: Daniel Costa, Ph.D.) | 86 FR 26013, May 12, 2021 | August 18, 2025.
28217 | N/A | 0648-XE722 | Douglas Nowacek, Ph.D., Duke University, 135 Duke Marine Lab Rd., Beaufort, NC 28516 | 90 FR 23032, May 30, 2025 | August 11, 2025.
29010 | N/A | 0648-XE978 | Caribbean Oceanic Restoration and Education Foundation, 2608 Fish Bay, St. John, VI 00830 (Responsible Party: Rebecca Gibbel, DVM) | 90 FR 27529, June 27, 2025 | August 19, 2025.

In compliance with the National Environmental Policy Act of 1969 (NEPA; 42 U.S.C. 4321 et seq.), a final determination has been made that the activities proposed for File Nos. 28217 and 23188, are categorically excluded from the requirement to prepare an environmental assessment (EA) or environmental impact statement (EIS).

For File No. 22629, an EA was prepared for the original permit (85 FR 56219, September 11, 2020) analyzing the effects of the permitted activities on the human environment in compliance with NEPA. Based on the analyses in that EA, NMFS determined that issuance of that permit would not significantly impact the quality of the human environment and that preparation of an EIS was not required. That determination is documented in a Finding of No Significant Impact (FONSI), signed on August 27, 2020. NMFS determined that issuance of this minor amendment (No. 22629-04) with a 1 year extension would not change the findings of the original EA and FONSI.

For File No. 29010, NMFS has determined that the activities proposed are consistent with the Preferred Alternative in the Final Programmatic EIS for the Coral Reef Conservation Program (NMFS 2020), and that issuance of the permit would not have a significant adverse impact on the human environment.

As required by the ESA, as applicable, issuance of these permits was based on a finding that such permits: (1) were applied for in good faith; (2) will not operate to the disadvantage of such endangered species; and (3) are consistent with the purposes and policies set forth in section 2 of the ESA.

Dated: September 25, 2025.
Shannon Bettridge,
Chief, Marine Mammal and Sea Turtle Conservation Division, Office of Protected Resources, National Marine Fisheries Service.

[FR Doc. 2025-18868 Filed 9-26-25; 8:45 am]

BILLING CODE 3510-22-P